DEPARTMENT OF VETERANS AFFAIRS

Department of Veterans Affairs Voluntary Service National Advisory Committee, Notice of Meeting

The Department of Veterans Affairs (VA) gives notice under the Federal Advisory Committee Act, 5 U.S.C. ch. 10, that the Executive Committee of the VA Voluntary Service (VAVS) National Advisory Committee (NAC) will meet October 24-25, 2024 at the Disabled American Veterans Washington Headquarters located at 1300 I Street NW, Suite 400 West, Washington, DC 20005. The meeting sessions will begin and end as follows:

Meeting date(s): | Meeting time(s):
Thursday, October 24, 2024 | 9:00 a.m. to 5:00 p.m. Eastern Standard Time (EST).
Friday, October 25, 2024 | 9:00 a.m. to 12:30 p.m. EST.

The meeting sessions are open to the public.

The Executive Committee, a working group of the VAVS NAC, comprised of 20 major Veteran, civic, and service organizations, advises the Secretary, through the Under Secretary for Health, on the coordination and promotion of volunteer activities and strategic partnerships within VA health care facilities, in the community, and on matters related to volunteerism and charitable giving.

Agenda topics will include the NAC goals and objectives; review of minutes from the May 14-16, 2024 meeting; briefings from VA Chief of Staff, VA Advisory Committee Management Office, and VA Center for Development and Civic Engagement (CDCE); subcommittee reports; review of standard operating procedures; assessment of member organization data; innovation for optimal access to care; cross committee collaboration among Federal advisory committees; extending programming into communities; and any new business.

The public may submit written statements for the Committee's review to Sabrina C. Clark, Ph.D., Designated Federal Officer, VA Center for Development and Civic Engagement (15CDCE), Department of Veterans Affairs, 810 Vermont Avenue NW, Washington, DC 20420, or email at Sabrina.Clark@va.gov. Any member of the public wishing to attend the meeting or seeking additional information should contact Dr. Clark at 202-536-8603.

Dated: September 25, 2024.
Jelessa M. Burney,
Federal Advisory Committee Management Officer.

[FR Doc. 2024-22403 Filed 9-30-24; 8:45 am]

BILLING CODE 8320-01-P